DEPARTMENT OF JUSTICE

Federal Bureau of Prisons

Notice of the Availability of the Record of Decision for Proposed Federal Correctional Institution—Berlin, NH

AGENCY: U.S. Department of Justice, Federal Bureau of Prisons.

ACTION: Notice of a Record of Decision.

SUMMARY: The U.S. Department of Justice, Federal Bureau of Prisons (BOP) announces the availability of the Record of Decision (ROD) concerning the Environmental Impact Statement (EIS) for the proposed development of a Federal Correctional Institution to be located in Berlin, Coos County, New Hampshire.

Background Information: Pursuant to Section 102(2)(c) of the National Environmental Policy Act of 1969 and the Council of Environmental Quality Regulations (40 CFR Parts 1500-1508), BOP has prepared Draft and Final EISs for the development of a medium-security Federal Correctional Institution to house approximately 1,230 adult male inmates, a satellite work camp to house approximately 128 minimum-security inmates, staff training facilities, and ancillary facilities in Berlin, New Hampshire.

Project Information: The BOP is responsible for carrying out judgements of the Federal courts whenever a period of confinement is ordered. Subsequently, the mission of the BOP is to protect society by confining offenders in the controlled environments of prisons and community-based facilities that are safe, humane, cost-efficient, and appropriately secure, and that provide work and other self-improvement opportunities to assist offenders in becoming law-abiding citizens. Approximately 162,200 inmates are currently housed within the 114 federal correctional institutions that have levels of security ranging from minimum to maximum; a number exceeding the combined rated capacities of all federal correctional facilities. Measures being taken to manage the growth of the federal inmate population include construction of new institutions, acquisition and adaptation of facilities originally intended for other purposes, expansion and improvement of existing correctional facilities, and expanded use of contract beds. Adding capacity through these various means allows the BOP to work toward the long-term goal of reduced system-wide crowding.

The proposed action in Berlin, New Hampshire, is part of the BOP's comprehensive expansion effort and would consist of construction and operation of a medium-security Federal Correctional Institution, a satellite work camp to house minimum-security inmates, staff training facilities, along with ancillary facilities. The principal function of the correctional facility would be to provide a safe, secure and humane environment for the care and custody of federal inmates, primarily from the Northeast region of the country. Upon activation, the facility would have a staff of approximately 300 to 350 full-time employees who would provide 24-hour supervision. Development of the proposed facility will necessitate the acquisition of approximately 700 acres of land by the BOP exclusive of lands which may be acquired for mitigation purposes.

The BOP evaluated alternatives as part of the EIS including the No Action Alternative, development of the proposed project at alternative locations nationwide, development of the proposed project at alternative locations within the Northeast United States, and development of the proposed project at one of four alternative sites located in Berlin, New Hampshire. Each of the four alternative sites located in Berlin, New Hampshire, is examined in detail in the Draft and Final EISs with development of the proposed project at Site A1 located northeast of downtown Berlin identified by the Draft and Final EISs as the Preferred Alternative.

The BOP issued a Draft EIS in March 2006 with publication of the Notice of Availability (NOA) in the Federal Register on March 24, 2006. The NOA provided for a 45-day public comment period which began on March 24, 2006, and ended on May 8, 2006. During the public comment period, the BOP held a public hearing concerning the proposed action and the Draft EIS on April 19, 2006. Approximately 200 individuals attended the public hearing which was held in Berlin, New Hampshire.

The Final EIS addressed comments received on the Draft EIS and publication of the NOA in the Federal Register concerning the Final EIS occurred on August 11, 2006. The 30-day review period for receipt of public comments concerning the Final EIS ended on September 11, 2006. Approximately 500 comment letters, post cards, and other forms of communication were received by the BOP during the Final EIS public review period. The comment letters received on the Final EIS are similar to comments received by the BOP on the Draft EIS and were considered in the decision presented in the ROD.

BOP provided written notices of the availability of the Draft EIS and Final EIS in the Federal Register, two newspapers with local and regional circulations, and through three local public libraries. The BOP also distributed approximately 175 copies (each) of the Draft EIS and Final EIS to federal and state agencies, state and local governments, elected officials, interested organizations, and individuals.

Availability of Record of Decision: The Record of Decision and other information regarding this project are available upon request. To request a copy of the Record of Decision, please contact: Pamela J. Chandler, Chief, or Issac J. Gaston, Site Selection Specialist, Site Selection and Environmental Review Branch, Federal Bureau of Prisons, 320 First Street, NW., Washington, DC 20534 Tel: 202-514-6470 Fax: 202-616-6024 / E-mail: pchandler@bop.gov—igaston@bop.gov

FOR FURTHER INFORMATION CONTACT: Pamela J. Chandler, or Issac J. Gaston, Federal Bureau of Prisons.

Dated: October 24, 2006.
Issac J. Gaston,
Site Specialist, Site Selection and Environmental Review Branch.

[FR Doc. E6-18039 Filed 10-26-06; 8:45 am]

BILLING CODE 4410-05-P